DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 19, 2005. Interested persons are invited to submit written comments regarding the subject matter of the investigations to the Director, Division of Trade Adjustment Assistance, at the address shown below, not later than December 19, 2005.

The petitions filed in this case are available for inspection at the Office of the Director, Division of Trade Adjustment Assistance, Employment and Training Administration, U.S. Department of Labor, Room C-5311, 200 Constitution Avenue, NW., Washington, DC 20210.

Signed at Washington, DC this 30th day of November 2005.
Erica R. Cantor,
Director, Division of Trade Adjustment Assistance.

APPENDIX

TAA Petitions Instituted Between 11/14/05 and 11/18/05
TA-W | Subject firm (petitioners) | Location | Date of institution | Date of petition
58316 | Prewett Hosiery Sales (Comp) | Fort Payne, AL | 11/14/05 | 10/15/05
58317 | Prewett Hosiery Sales Corporation (Comp) | Fort Payne, AL | 11/14/05 | 10/15/05
58318 | VI Prewett and Son, Inc. (Comp) | Fort Payne, AL | 11/14/05 | 10/15/05
58319 | Johnco Hosiery, Inc. (Comp) | Fort Payne, AL | 11/14/05 | 10/19/05
58320 | Johnson Hosiery Mills, Inc. (Comp) | Fort Payne, AL | 11/14/05 | 10/20/05
58321 | McKeehan Hosiery Mill, Inc. (Comp) | Fort Payne, AL | 11/14/05 | 10/21/05
58322 | Pioneer Knitting Mills (Comp) | Fort Payne, AL | 11/14/05 | 10/17/05
58323 | Lala Ellen Knitting Mills (Comp) | Fort Payne, AL | 11/14/05 | 10/20/05
58324 | Cherokee Hosiery Mills, Inc. (Comp) | Fort Payne, AL | 11/14/05 | 10/20/05
58325 | Capstone Hosiery, LLC (Comp) | Fort Payne, AL | 11/14/05 | 10/15/05
58326 | Reliable Garment (State) | Los Angeles, CA | 11/14/05 | 11/10/05
58327 | Hewlett Packard (Comp) | Ontario, CA | 11/14/05 | 11/10/05
58328 | Motorola, Inc. (Comp) | Elgin, IL | 11/14/05 | 11/11/05
58329 | Unilever / Conopco, Inc. (Comp) | Asheboro, NC | 11/14/05 | 11/14/05
58330 | Tenneco Automotive, Inc. (State) | Salinas, CA | 11/14/05 | 11/01/05
58331 | Smucker Fruit Processing Center (State) | Salinas, CA | 11/14/05 | 11/01/05
58332 | Holte (Comp) | Los Angeles, CA | 11/14/05 | 10/29/05
58333 | Sonoco Products Company (Comp) | Chester, VA | 11/14/05 | 11/01/05
58334 | Armstrong World Industries, Inc. (USWA) | Lancaster, PA | 11/14/05 | 11/11/05
58335 | Powder Processing and Technology, LLC (Comp) | Valparaiso, IN | 11/14/05 | 11/09/05
58336 | Kimberly Clark Corporation (Comp) | Draper, UT | 11/14/05 | 10/28/05
58337 | Cone Denim, LLC (Comp) | Cliffside, NC | 11/15/05 | 11/07/05
58338 | Passion Parties, Inc. (Wkrs) | Brisbane, CA | 11/15/05 | 11/14/05
58339 | Saint-Gobain Crystals (Comp) | Washougal, WA | 11/15/05 | 11/11/05
58340 | Rolatape Corporation (Wkrs) | Spokane, WA | 11/15/05 | 11/10/05
58341 | Alene Candles (State) | Putnam, CT | 11/15/05 | 11/14/05
58342 | Studio Resource (State) | Milwaukee, OR | 11/15/05 | 11/11/05
58343 | Michael's of Oregon (State) | Oregon City, OR | 11/15/05 | 11/11/05
58344 | Bio-Rad Laboratories, Inc. (Wkrs) | Waltham, MA | 11/15/05 | 11/10/05
58345 | Formica Corporation (Comp) | Odenton, MD | 11/15/05 | 11/14/05
58346 | Weavetex, Inc. (Comp) | Jonesville, SC | 11/15/05 | 11/14/05
58347 | Imerys Pigments and Additives (USWA) | Dry Branch, GA | 11/15/05 | 11/07/05
58348 | General Electric (IBEW) | Bloomington, IN | 11/15/05 | 11/15/05
58349 | Joy Technologies, Inc. (IBB) | Mt. Vernon, IL | 11/16/05 | 11/16/05
58350 | Raytheon Aircraft Company (IAM) | Wichita, KS | 11/16/05 | 10/24/05
58351 | Air Control Science, Inc. (Wkrs) | Boulder, CO | 11/16/05 | 11/15/05
58352 | Cavert Wire Co. (Wkrs) | Lemont Furnace, PA | 11/16/05 | 10/31/05
58353 | James R. Lawson Trucking (Comp) | Mill Creek, PA | 11/16/05 | 11/02/05
58354 | Creform Corporation (Comp) | Greer, SC | 11/16/05 | 11/15/05
58355 | Exxon Mobil Corp. (Wkrs) | Exton, PA | 11/16/05 | 11/15/05
58356 | Rug Barn (The) (Comp) | Abbeville, SC | 11/16/05 | 11/04/05
58357 | JB Britches, Inc. (State) | San Fernando, CA | 11/16/05 | 11/04/05
58358 | Tai Seng Video Marketing, Inc. (Comp) | S. San Francisco, CA | 11/17/05 | 11/16/05
58359 | Strong Water Co. (State) | Moonachie, NJ | 11/17/05 | 11/16/05
58360 | Romech (Comp) | Red Oak, IA | 11/17/05 | 11/16/05
58361 | Sheet Metal Workers Union Local 483 (Comp) | Morrison, TN | 11/17/05 | 11/16/05
58362 | Stora Enso North America (Comp) | Stevens Point, WI | 11/17/05 | 11/07/05
58363 | Thomasville Furniture Ind., Inc. (Comp) | Thomasville, NC | 11/17/05 | 11/15/05
58364 | Mine Safety Appliances (Wkrs) | Evans City, PA | 11/17/05 | 11/15/05
58365 | Phoenix Mecano, Inc. (Comp) | Romney, WV | 11/17/05 | 11/15/05
58366 | Teradyne, Inc. (State) | N. Reading, MA | 11/17/05 | 11/15/05
58367 | Springfield Wire, Inc. (Comp) | Springfield, MA | 11/17/05 | 11/10/05
58368 | Coherent, Inc. (Comp) | Auburn, CA | 11/17/05 | 11/10/05
58369 | Agere Systems (Wkrs) | Orlando, FL | 11/17/05 | 11/03/05
58370 | S. Lichtenberg and Co., Inc. (Comp) | Waynesboro, GA | 11/18/05 | 11/17/05
58371 | Carhartt, Inc. (Comp) | Glasgow, KY | 11/18/05 | 11/17/05
58372 | Temple-Inland Box Plant (State) | Newark, DE | 11/18/05 | 11/17/05
58373 | Irving Oil (Wkrs) | Brewer, ME | 11/18/05 | 11/14/05
58374 | Pacific MDF Products of SC (Comp) | Clio, SC | 11/18/05 | 11/17/05
58375 | Spartacraft, Inc. (Comp) | Connelly Springs, NC | 11/18/05 | 11/15/05
58376 | Lati USA, Inc. (Comp) | Summerville, SC | 11/18/05 | 11/17/05
58377 | EI Dupont (State) | Orange, TX | 11/18/05 | 11/14/05
58378 | Hoffmaster, Creative Expressions, Fonda Brands (Wkrs) | Glens Falls, NY | 11/18/05 | 11/10/05
58379 | SPX Contech (Comp) | Mishawaka, IN | 11/18/05 | 11/01/05
58380 | Dan Post Boot Co. (Comp) | Waverly, TN | 11/18/05 | 11/18/05
58381 | DSM Pharma Chemicals (Comp) | Greenville, NC | 11/18/05 | 01/17/05

[FR Doc. E5-7055 Filed 12-7-05; 8:45 am]

BILLING CODE 4510-30-P